DEPARTMENT OF AGRICULTURE

Forest Service

Del Norte County Resource Advisory Committee

AGENCY: Forest Service, USDA.

ACTION: Notice of meeting.

SUMMARY: The Del Norte County Resource Advisory Committee (RAC) will meet on June 12 and 13, 2006, in Crescent City, California. The purpose of the meeting is for the RAC to vote and approve Fiscal Year 2008 Title II proposals submitted under Public Law 106-393, H.R. 2389, the Secure Rural Schools and Community Self-Determination Act of 2000, also called the “Payments to States” Act.

DATES: The meeting will be held on August 27 and 28, 2007, from 6 to 8:30 p.m.

ADDRESSES: The meeting will be held at the Del Norte County Unified School District Board Room, 301 West Washington, Crescent City, California.

FOR FURTHER INFORMATION CONTACT: Julie Ranieri, Committee Coordinator, USDA, Six Rivers National Forest, 1330 Bayshore Way, Eureka, CA 95501. Phone: (707) 441-3673. E-mail: jranieri@fs.fed.us.

SUPPLEMENTARY INFORMATION: The Del Norte Resource Advisory Committee will vote to approve proposals submitted for Fiscal Year 2008 Title II funding. The meeting is open to the public. Public input opportunity will be provided and individuals will have the opportunity to address the committee at that time.

Dated: August 10, 2007.
Tyrone Kelley,
Acting Forest Supervisor.

[FR Doc. 07-4009 Filed 8-15-07; 8:45 am]

BILLING CODE 3410-11-M